DEPARTMENT OF HEALTH AND HUMAN SERVICES

Administration for Children and Families

Proposed Information Collection Activity; Head Start REACH: Strengthening Outreach, Recruitment, and Engagement Approaches With Families (New Collection)

AGENCY: Office of Planning, Research, and Evaluation, Administration for Children and Families, HHS.

ACTION: Request for public comment.

SUMMARY: The Administration for Children and Families (ACF) within the U.S. Department of Health and Human Services (HHS) is proposing to collect data on different approaches that Head Start programs use for the recruitment, selection, enrollment, and retention (RSER) of families facing adversities and the community organizations with which it partners to support these activities. This study aims to present an internally valid description of RSER approaches used by six purposively selected programs, not to promote statistical generalization to different sites or service populations.

DATES: Comments due within 60 days of publication. In compliance with the requirements of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The Head Start REACH: Strengthening Outreach, Recruitment, and Engagement Approaches with Families project is proposing to conduct qualitative case studies to examine the approaches used by Head Start programs to recruit, select, enroll, and retain families experiencing adversities and the implementation of these approaches, including supporting factors and barriers. Adversities is a broad term that refers to a wide range of circumstances or events that pose a threat to a child or caregiver's physical or psychological well-being. The adversities that families experience are often intertwined with poverty, may co-occur, and are affected by systematic factors, such as structural racism. Common examples include (but are not limited to) families experiencing homelessness; involvement in child welfare, including foster care; and affected by substance use, mental health issues, and domestic violence.

We will collect information from six sites; each site will include (1) a Head Start program that has demonstrated success in the RSER of families experiencing adversities, and (2) up to four of its community partner organizations that serve families experiencing adversities.

We will collect information on how programs determine which adversities to focus on for their RSER efforts; RSER approaches programs use, focusing specifically on families experiencing adversities; RSER-related training and support that Head Start staff receive; partnerships that programs form with organizations in the community to support these activities; and supporting factors and barriers to participation of enrolled and non-enrolled families who face adversities.

Respondents: Head Start program directors; Head Start staff conducting eligibility, recruitment, selection, enrollment, attendance (ERSEA) activities; staff from community organizations with which Head Start programs partner for ERSEA activities; Head Start-eligible parents enrolled in Head Start, and those not enrolled in Head Start.

Annual Burden Estimates
Instrument | Number of respondents (total over request period) | Number of responses per respondent (total over request period) | Average burden per response (in hours) | Total/annual burden (in hours)
Program director recruitment call protocol (Instrument 1) | 6 | 1 | 0.50 | 3.0
Program staff interview protocol: Program director (Instrument 2) ᵃ | 6 | 1 | 1.0 | 6.0
Program staff interview protocol ERSEA staff (Instrument 2) ᵃ | 24 | 1 | 1.5 | 36
Head Start enrolled families focus group guide (Instrument 3) | 60 | 1 | 1.5 | 90
Community partner recruitment call protocol (Instrument 4) | 24 | 1 | 0.17 | 4.0
Community partner staff interview protocol (Instrument 5) | 24 | 1 | 0.75 | 18
Community partner focus group coordination ᵇ | 6 | 1 | 2.0 | 12
Families not enrolled in Head Start focus group guide (Instrument 6) | 60 | 1 | 1.5 | 90
ᵃ There is one interview protocol for both the program director and the ERSEA staff and the interviewer will tailor it to the respondent(s).
ᵇ There is no instrument, only a document of duties associated with this activity.

Estimated Total Annual Burden Hours: 259

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Head Start Act Section 640 [42 U.S.C. 9835].

Mary B. Jones,
ACF/OPRE Certifying Officer.

[FR Doc. 2021-11777 Filed 6-3-21; 8:45 am]

BILLING CODE 4184-22-P